DEPARTMENT OF TRANSPORTATION

Federal Aviation Administration

14 CFR Part 25

[Docket No. FAA-2015-3324; Special Conditions No. 25-650-SC]

Special Conditions: L-3 Communications Integrated Systems; Boeing Model 747-8 Series Airplanes, Large Non-Structural Glass in the Passenger Compartment

AGENCY: Federal Aviation Administration (FAA), DOT.

ACTION: Final special conditions; correction.

SUMMARY: This document corrects an error that appeared in Docket No. FAA-2015-3324, Special Conditions No. 25-650-SC, which was published in the Federal Register on March 17, 2017 (82 FR 14111). This error was the inadvertent inclusion of an erroneous word in the special conditions wording of the final special conditions document.

DATES: The effective date of this correction is July 28, 2017.

FOR FURTHER INFORMATION CONTACT: Alan Sinclair, FAA, Airframe and Cabin Safety, ANM-115, Transport Airplane Directorate, Aircraft Certification Service, 1601 Lind Avenue SW., Renton, Washington, 98057-3356; telephone 425-227-2195; facsimile 425-227-1320; email alan.sinclair@faa.gov.

SUPPLEMENTARY INFORMATION:

Background

On March 17, 2017, the Federal Register published a document designated as Docket No. FAA-2015-3324, Final Special Conditions No. 25-650-SC (82 FR 14111). The document issued special conditions pertaining to the installation of large non-structural glass panels in the cabin area of an executive interior occupied by passengers and crew. As published, the document contained an error in that an inadvertent erroneous word was included in the final special conditions portion of the document.

Correction

In the final special conditions document (FR Doc. 2017-05330, Filed 3-16-17; 8:45 a.m.), published on March 17, 2017 (82 FR 14111), make the following correction.

On page 14112, third column, under special condition no. 1. Material Fragmentation, remove the word “all” from line 7 of the paragraph.

Issued in Renton, Washington, on July 19, 2017.
Victor Wicklund,
Acting Manager, Transport Airplane Directorate, Aircraft Certification Service.

[FR Doc. 2017-15919 Filed 7-27-17; 8:45 am]

BILLING CODE 4910-13-P